DEPARTMENT OF EDUCATION

[Docket No.: ED-2024-SCC-0015]

Agency Information Collection Activities; Submission to the Office of Management and Budget for Review and Approval; Comment Request; U.S. Department of Education Build America, Buy America Act (BABAA) Data Collection

AGENCY: Office of Finance and Operations (OFO), Department of Education (ED).

ACTION: Notice.

SUMMARY: In accordance with the Paperwork Reduction Act (PRA) of 1995, the Department is proposing a new information collection request (ICR).

DATES: Interested persons are invited to submit comments on or before May 6, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Cleveland Knight, 202-987-0064.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: U.S. Department of Education Build America, Buy America Act (BABAA) Data Collection.

OMB Control Number: 1894-NEW.

Type of Review: A new ICR.

Respondents/Affected Public: State, Local, and Tribal Governments, Private Sector—Not-for-Profit Institutions.

Total Estimated Number of Annual Responses: 470.

Total Estimated Number of Annual Burden Hours: 4,700.

Abstract: In accordance with section 70914 of the Build America Buy America Act (Pub. L. 117-58 70901-70953) (BABAA), grantees funded under Department of Education (the Department) programs that allow funds to be used for infrastructure projects (infrastructure programs), i.e., construction and broadband infrastructure, may not use their grant funds for these infrastructure projects or activities unless they comply with the following BABAA sourcing requirements:

1. All iron and steel used in the infrastructure project or activity are produced in the United States.

2. All manufactured products used in the infrastructure project or activity are produced in the United States.

3. All construction materials are manufactured in the United States.

The Department may, in accordance with sections 70914(b) and (d), 70921(b), 70935, and 70937 of BABAA, and the Office of Management and Budget Memorandum M 24-02, Implementation Guidance on Application of Buy America Preference in Federal Financial Assistance Programs for Infrastructure, approve waivers to BABAA sourcing requirements under programs it has identified as infrastructure programs when it determines that exceptions to these requirements apply. The Department may approve these waivers, subject to notice and comment requirements and the Office of Management and Budget Made in America Office (MIAO) review.

The information submitted by grantees using the BABAA Data Collection Form will be used by the Department to track the type of waivers (i.e., agency level waivers or approved grantee waivers) implemented by grantees. The data may also be used for reporting purposes.

Dated: April 1, 2024.
Stephanie Valentine,
PRA Coordinator, Strategic Collections and Clearance Governance and Strategy Division, Office of Chief Data Officer, Office of Planning, Evaluation and Policy Development.

[FR Doc. 2024-07166 Filed 4-3-24; 8:45 am]

BILLING CODE 4000-01-P